DEPARTMENT OF TRANSPORTATION

Pipeline and Hazardous Materials Safety Administration

Hazardous Materials: Notice of Actions on Special Permits

AGENCY: Pipeline and Hazardous Materials Safety Administration (PHMSA), DOT.

ACTION: Notice of actions on special permit applications.

SUMMARY: In accordance with the procedures governing the application for, and the processing of, special permits from the Department of Transportation's Hazardous Material Regulations, notice is hereby given that the Office of Hazardous Materials Safety has received the application described herein.

DATES: Comments must be received on or before August 4, 2023.

ADDRESSES: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Donald Burger, Chief, Office of Hazardous Materials Safety General Approvals and Permits Branch, Pipeline and Hazardous Materials Safety Administration, U.S. Department of Transportation, East Building, PHH-13, 1200 New Jersey Avenue Southeast, Washington, DC 20590-0001, (202) 366-4535.

SUPPLEMENTARY INFORMATION: Copies of the applications are available for inspection in the Records Center, East Building, PHH-13, 1200 New Jersey Avenue Southeast, Washington, DC.

This notice of receipt of applications for special permit is published in accordance with part 107 of the Federal hazardous materials transportation law (49 U.S.C. 5117(b); 49 CFR 1.53(b)).

Issued in Washington, DC, on June 1, 2023.
Donald P. Burger,
Chief, General Approvals and Permits Branch.

Special Permits Data—Granted
Application No. | Applicant | Regulation(s) affected | Nature of the special permits thereof
10232-M | Illinois Tool Works Inc | 173.304(d), 173.167, 173.306(i) | To modify the special permit to authorize additional hazardous materials.
10887-M | National Aeronautics and Space Administration | 173.314 | To modify the special permit to authorize an updated rupture disc and relief valve and updated transportation routes.
20418-M | Hanwha Cimarron LLC | 173.302(a) | To modify the special permit to extend the due dates in paragraphs 7.d.(4) and (5) to January 30, 2024.
20907-M | Versum Materials US, LLC | 171.23(a)(1), 171.23(a)(3) | To modify the special permit to remove the limitation on the number of cylinders imported per month or to increase the number of cylinders imported per month to 250.
20936-M | CO2 Exchange LLC | 171.2(k), 172.200, 172.300, 172.700(a), 172.400, 172.500 | To modify the special permit to authorize a larger cylinder, a smaller marking, and more cylinders per package.
21136-M | Hanwha Cimarron LLC | 173.302(a)(1) | To modify the special permit to extend the due dates in paragraphs 7.d.(4) and (5) to January 30, 2024.
21209-M | Atlas Air, Inc | 172.101(j), 173.27(b)(2), 175.30(a)(1) | To modify the special permit to authorize anhydrous ammonia.
21359-M | Thales Alenia Space | 172.101(j), 172.300, 172.400, 173.301(f), 173.302a(a)(1), 173.304a(a)(2), 173.56, 173.185(a)(1), 172.101(j)(1) | To modify the special permit to authorize cargo vessel.
21470-N | Honeywell Intellectual Properties Inc | 173.302(a)(1), 180.205, 180.207, 180.209, 180.211, 180.212, 180.213, 180.215 | To authorize the manufacture, mark, sale, and use of a non-DOT specification cylinder conforming with all regulations applicable to a DOT Specification 3HT cylinder, except as specified herein, for the transportation in commerce of the materials authorized by this special permit.
21531-M | Environmental Restoration, LLC | 173.185(f) | To modify the special permit to add a hazardous material and to remove the requirement in paragraph 7.c.(2).
21539-N | Rivian Automotive, LLC | 172.301(c), 173.185(c)(1)(iii) | To authorize the transportation in commerce of packages containing lithium ion cells without the marking or label required in § 173.185(c)(1)(iii) when contained in overpacks and transported via motor vehicle between Rivian Automotive, LLC locations.
21543-N | Consumer Product Safety Commission, United States | 173.185(a)(1) | To authorize the transportation in commerce of lithium batteries that are not of a type proven to meet the criteria of the UN Manual of Tests and Criteria 38.3, by motor vehicle.
21544-N | Astra Space Operations, Inc | 173.301(f)(1) | To authorize the transportation in commerce of a specification cylinder containing a Division 2.2 gas (incorporated into a propulsion module) that is not equipped with a pressure relief device. (spacecraft)
21546-N | Space Exploration Technologies Corp | 172.300, 172.400, 172.101(k)(7), 176.63(b), 176.178(b), 176.180, 176.182(g), 176.190, 176.116(e), 176.138(b), 176.164(b), 176.164(e) | To authorize the transportation of commerce of the Recovered Dragon 2 Space Capsule from the landing site to its final destination.
21552-N | Walt Disney Parks and Resorts U.S., Inc | 172.320, 173.56(b) | To authorize the transportation in commerce of certain waste pyrotechnic articles and substances.
21554-N | Gateway Pyrotechnic Productions, LLC | 173.56, 173.60(a) | To authorize the transportation in commerce of seized suspected counterfeit explosives from Denver, CO to St. Louis, MO.
21557-N | Air Liquide Electronics U.S. LP | 171.23(a), 172.301(c) | To authorize the transportation in commerce of a single non-DOT specification cylinder containing Silane.

Special Permits Data—Denied
Application No. | Applicant | Regulation(s) affected | Nature of the special permits thereof
21497-N | Promega Corporation | 172.203(a), 178.602(b) | To authorize the manufacture, mark, sale, and use of UN 4G boxes in which the inner packagings need not be filled to 98% of their capacity for the drop and stacking tests during periodic retesting.
21503-N | Samsung Austin Semiconductor, LLC | 173.301(a)(1), 173.302a(a)(1), 173.304(a)(1), 180.205 | To authorize the transportation in commerce of liquefied gas, hazard zone C, in aluminum non-DOT specification cylinders.
21513-N | The Chemours Company FC LLC | 173.301(f)(2), 177.840(a)(1) | To authorize the transportation in commerce of certain Division 2.1 gases in cylinders without each pressure relief device being in communication with the vapor space of each cylinder.
21540-N | Kidde Technologies Inc | 173.302a | To authorize the manufacture, mark, sale, and use of non-DOT specification cylinders, similar to DOT 4DS, for the transportation of certain hazardous materials.

Special Permits Data—Withdrawn
Application No. | Applicant | Regulation(s) affected | Nature of the special permits thereof
21550-N | Quallion LLC | 173.185(a), 173.185(e) | To authorize the transportation in commerce of low production lithium ion batteries.
21559-N | Federal Bureau of Investigation |  | To authorize the transportation in commerce of drug evidence.
21566-N | Ferguson and Sons Construction, LLC | 172.200, 172.204(c)(3), 172.301(c), 172.101(j), 173.1, 173.27(b)(2), 175.30(a)(1), 175.75 | To authorize the transportation in commerce of HAZMAT by external load with rotorcraft—FAA Part 133.
21571-N | Rocket Lab USA, Inc | 173.27(b)(2) | To authorize the transportation in commerce of Ammonia, anhydrous by cargo air and motor vehicle.

[FR Doc. 2023-14185 Filed 7-3-23; 8:45 am]

BILLING CODE P